SUSQUEHANNA RIVER BASIN COMMISSION

Notice of Actions Taken at June 13, 2007 Meeting

AGENCY: Susquehanna River Basin Commission.

ACTION: Notice of Commission actions.

SUMMARY: At a public hearing held on June 13, 2007 in North East, MD, the Susquehanna River Basin Commission approved certain water resources projects, accepted a settlement proposal, and incorporated two projects into the SRBC Comprehensive Plan, as described in the Supplementary Information section below. In other meeting action, the Commission heard informational presentations on: (1) The 2007 migratory fish runs through the fish passage facilities located at the lower Susquehanna River hydroelectric projects, (2) a Coastal Plain Aquifer Study being led by the U.S. Geological Survey Maryland District, and (3) hydrologic conditions in the basin indicating the occurrence of dry conditions during the month of May. The Commission also adopted the FY-2009 budget, elected Commission officers for FY-2008, approved/ratified several grants and contracts, and presented the SRBC Maurice K. Goddard Award to William A. Gast of the Pennsylvania Dept. of Environmental Protection. For further meeting details, visit the Commission's Web site at http://www.srbc.net.

DATES: June 13, 2007.

ADDRESSES: Susquehanna River Basin Commission, 1721 N. Front Street, Harrisburg, PA 17102-2391.

FOR FURTHER INFORMATION CONTACT: Richard A. Cairo, General Counsel, telephone: (717) 238-0423; ext. 306; fax: (717) 238-2436; e-mail: rcairo@srbc.net or Deborah J. Dickey, Secretary to the Commission, telephone: (717) 238-0422, ext. 301; fax: (717) 238-2436; e-mail: ddickey@srbc.net. Regular mail inquiries may be sent to the above address.

SUPPLEMENTARY INFORMATION: At a public hearing on June 13, 2007, the Susquehanna River Basin Commission took the following actions:

Public Hearing—Projects Approved

1. Project Sponsor and Facility: Town of Conklin (Well 5), Broome County, N.Y. Approval for groundwater withdrawal of 0.350 mgd.

2. Project Sponsor and Facility: Town of Erwin (ID Well 2, Well 2, Well 3, ID Well 1), Steuben County, N.Y. Approval for groundwater withdrawals of 0.504 mgd, 0.350 mgd, 0.325 mgd, and 0.125 mgd.

3. Project Sponsor and Facility: Far Away Springs—Brandonville, East Union and Mahanoy Townships, Schuylkill County, Pa. Approval for groundwater withdrawal of 0.079 mgd and consumptive water use of up to 0.200 mgd.

4. Project Sponsor and Facility: Hughesville Borough Authority (Well 1, Well 2, Well 3), Wolf Township, Lycoming County, Pa. Approval for groundwater withdrawals of 0.260 mgd, 0.260 mgd and 1.440 mgd.

5. Project Sponsor: Glenn O. Hawbaker, Inc. Project Facility: Pleasant Gap, Spring Township, Centre County, Pa. Modification of consumptive water use approval (Docket No. 20050307).

6. Project Sponsor and Facility: Centre Hills Country Club (Hole #8 Well, Driving Range Well), College Township, Centre County, Pa. Approval for groundwater withdrawals of 0.316 mgd and 0.316 mgd.

7. Project Sponsor: New Enterprise Stone & Lime Co., Inc. Project Facility: Tyrone Quarry, Warriors Mark and Snyder Townships, Huntingdon and Blair Counties, Pa. Modification of surface water and groundwater approval (Docket No. 20031205).

8. Project Sponsor: New Enterprise Stone & Lime Co., Inc. Project Facility: Ashcom Quarry, Snake Spring Valley Township, Bedford County, Pa. Modification of groundwater approval (Docket No. 20031204).

9. Project Sponsor and Facility: AES Ironwood, LLC, South Lebanon Township, Lebanon County, Pa. Modification of surface water and consumptive use approval and diversion (Docket No. 19980502).

10. Project Sponsor and Facility: East Cocalico Township Authority (Well F, Well M), East Cocalico Township, Lancaster County, Pa. Approval for groundwater withdrawals of 1.150 mgd and 1.580 mgd.

11. Project Sponsor: Golf Enterprises, Inc. Project Facility: Valley Green Golf Course, Newberry Township, York County, Pa. Modification of consumptive water use approval (Docket No. 20021019).

12. Project Sponsor and Facility: Mount Joy Borough Authority (Well 3), Mount Joy Borough, Lancaster County, Pa. Approval for groundwater withdrawal of 1.020 mgd.

13. Project Sponsor and Facility: Dart Container Corporation of Pennsylvania (Well B), Upper Leacock Township, Lancaster County, Pa. Approval for groundwater withdrawal of 0.122 mgd.

14. Project Sponsor: Honey Run GIBG LLC. Project Facility: Honey Run Golf Club, Dover Township, York County, Pa. Modification of surface water withdrawal approval (Docket No. 20020827).

Public Hearing—Enforcement Action—Settlement

South Slope Development Corporation (Docket No. 19991103). The Commission accepted a settlement proposal from South Slope Development Corporation for certain docket violations occurring at the Song Mountain Ski Resort in the Town of Preble, Cortland County, New York.

Public Hearing—Revision of Comprehensive Plan

The Commission revised the SRBC Comprehensive Plan by including the following projects: (1) Whitney Point Lake Section 1135 Project Modification; and (2) Lancashire No. 15 AMD Treatment Plant. Both of these projects will provide releases of water for environmental improvement and low flow augmentation.

Authority: Pub. L. 91-575, 84 Stat. 1509 et seq., 18 CFR parts 806, 807, and 808.

Dated: June 19, 2007.
Thomas W. Beauduy,
Deputy Director.

[FR Doc. E7-12618 Filed 6-28-07; 8:45 am]

BILLING CODE 7040-01-P